DEPARTMENT OF THE INTERIOR

Fish and Wildlife Service

[FWS-R5-R-2012-N166; BAC-4311-K9-S3]

Prime Hook National Wildlife Refuge, Sussex County, DE; Draft Comprehensive Conservation Plan and Environmental Impact Statement

AGENCY: Fish and Wildlife Service, Interior.

ACTION: Notice of availability; reopening of comment period.

SUMMARY: We, the U.S. Fish and Wildlife Service (Service), advise the public that we are reopening the public comment period for the draft comprehensive conservation plan and draft environmental impact statement (draft CCP/EIS) for Prime Hook National Wildlife Refuge (NWR), located in Sussex County, Delaware. If you have previously submitted comments, please do not resubmit them. We have already incorporated them in the public record and will fully consider them in the final decision.

DATES: To ensure consideration, please send your comments no later than August 27, 2012.

ADDRESSES: You may submit comments by any one of the following methods. You may also request hard copies or a CD-ROM of the documents.

Email: northeastplanning@fws.gov. Please include “Prime Hook NWR Draft CCP” in the subject line of the message.

Fax: Attention: Thomas Bonetti, 413-253-8468.

U.S. Mail: Thomas Bonetti, U.S. Fish and Wildlife Service, 300 Westgate Center Drive, Hadley, MA 01035.

In-Person Drop-off, Viewing, or Pickup: Call 302-684-8419 to make an appointment (necessary for view/pickup only) during regular business hours at Prime Hook NWR, 11978 Turkle Pond Road, Milton, DE 19968.

FOR FURTHER INFORMATION CONTACT: Michael Stroeh, Project Leader, 302-653-9345 (phone), or Thomas Bonetti, Planning Team Leader, 413-253-8307 (phone); northeastplanning@fws.gov (email).

SUPPLEMENTARY INFORMATION: On May 31, 2012, we published a Federal Register notice (77 FR 32131) announcing the availability of and requesting comments on the draft CCP/EIS for Prime Hook NWR in accordance with National Environmental Policy Act (40 CFR 1506.6(b)) requirements. We originally opened this comment period from May 31, 2012, to August 6, 2012. For background and more information on the draft CCP/EIS, please see that notice. We are reopening the public comment period on the draft CCP/EIS in response to requests we have received.

Public Availability of Documents

In addition to any methods in ADDRESSES, you can view or obtain documents on the refuge Web site: http://www.fws.gov/northeast/planning/Prime%20Hook/ccphome.html.

Public Availability of Comments

Before including your address, phone number, email address, or other personal identifying information in your comment, you should be aware that your entire comment-including your personal identifying information-may be made publicly available at any time. While you can ask us in your comment to withhold your personal identifying information from public review, we cannot guarantee that we will be able to do so.

Dated: July 17, 2012.
Henry Chang,
Acting Regional Director, Northeast Region.

[FR Doc. 2012-19395 Filed 8-7-12; 8:45 am]

BILLING CODE 4310-55-P